DEPARTMENT OF HOUSING AND URBAN DEVELOPMENT

[Docket Number FR-5500-FA-13]

Announcement of Funding Awards for the Housing Opportunities for Persons With AIDS (HOPWA) Program for Fiscal Year (FY) 2011

AGENCY: Office of the Assistant Secretary for Community Planning and Development, HUD.

ACTION: Announcement of funding awards.

SUMMARY: In accordance with Section 102(a)(4)(C) of the Department of Housing and Urban Development Reform Act of 1989, this notice announces 26 permanent supportive housing renewal grant awards totaling $28,111,948 from the Department's FY2011 Housing Opportunities for Persons With AIDS (HOPWA) program, and seven new competitive awards totaling $8,880,804, to assist communities with local planning efforts to improve the systematic delivery of housing and services to low-income individuals and their families living with HIV/AIDS. This notice makes available the names of the award recipients and grant amounts (reference Appendices A and B).

FOR FURTHER INFORMATION CONTACT: Benjamin Ayers, CPD Specialist, Office of HIV/AIDS Housing, Office of Community Planning and Development, Department of Housing and Urban Development, 451 Seventh Street SW., Room 7212, Washington, DC 20410, telephone number 202-708-1934. To provide service for persons who are hearing-or-speech-impaired, this number may be reached via TTY by dialing the Federal Relay Service on 800-877-TTY, 800-877-8339, or 202-708-2565. (Telephone number, other than “800” TTY numbers are not toll free). Information on HOPWA, community development and consolidated planning, and other HUD programs may be obtained from the HUD Home Page at www.hud.gov. In addition to these competitive selections, 134 jurisdictions received formula based allocations during FY2011 totaling $297,888,000 to provide supportive housing programs for low-income individuals and their families living with HIV/AIDS. Descriptions of HOPWA formula and competitive programs may be obtained at: http://hudhre.info/hopwa/index.cfm?do=viewHopwaLocalResources.

SUPPLEMENTARY INFORMATION: The renewal grant application notification to expiring permanent supportive housing grants was established in a HUD Notice entitled, “Standards for Fiscal Year 2011 HOPWA Permanent Supportive Housing Renewal Grant Applications,” issued on January 25, 2011. The funding announcement for the new competitive grant awards were published in a Notice of Funding Availability (NOFA) on May 18, 2011. The HOPWA assistance made available in this announcement is authorized by the AIDS Housing Opportunity Act (42 U.S.C. 12901), as amended by the Housing and Community Development Act of 1992 (Pub. L.102-550, approved October 28, 1992) and was appropriated by the HUD Appropriations Act for 2011.

The 26 renewal grant awards totaling $28,111, 948 and the seven new competitive grant awards totaling $8,972,579 will provide housing and supportive services to an estimated 1278 low income households and their families living with HIV/AIDS. These grant applications committed approximately $49.8 million in leveraging of other Federal, State, local, and private resources to provide additional supportive services for project beneficiaries.

The award of the seven new competitive grant recipients are funded under the HOPWA program's Special Projects of National Significance competitive grant program and these awards are for one-time only funding to be used over a three year grant period. This funding will support local planning and coordination efforts to develop and implement and Integrated HIV/AIDS Housing Plan (IHHP) for these respective communities. The IHHP(s) will be developed as a collaborative process to improve the systematic delivery of housing and services to low-income individuals and families living with HIV/AIDS and will serve as models for other communities across the U.S. These resources will allow States, localities, and nonprofits to devise place-based comprehensive strategies for meeting the housing needs of low-income persons with HIV/AIDS while enabling the development of new cross program approaches for integrated HIV care, (housing and services) by collaborating with diverse community agencies and planning bodies, including Public Housing Authorities and DHHS-funded Ryan White CARE Act and Centers for Disease Control and Prevention grantees. The renewal grants were announced on April 26, 2011, and the new competitive grant awards were announced on September 21, 2011.

Both the renewal and new competitive grant activities compliment HUD's implementation of the National HIV/AIDS Strategy (NHAS), HUD's Fiscal Year 2010-2015 Strategic Plan and the Opening Doors Federal Strategic Plan to Prevent and End Homelessness. These award actions address goals to: prevent and end homelessness; increase the supply of affordable housing; and increase the coordination of mainstream housing resources and other health and human services. More information about HUD's HOPWA program, the funded grantees is available at: http://portal.hud.gov/hudportal/HUD?src=/program_offices/comm_planning/aidshousing/programs.

In accordance with Section 102(a)(4)(C) of the Department of Housing and Urban Development Reform Act of 1989 (103 Stat.1987, 42 U.S.C. 3545), the Department is publishing the details of HOPWA renewal funding grant announcement in Appendix A and the competitive grant awards in Appendix B.

Dated: February 26, 2013.
Francis Bush,
Deputy Assistant Secretary for Operations, Office of Community Planning and Development.

Appendix A

Fiscal Year 2011 Funding Awards for HOPWA Permanent Supportive Housing Renewal Grants
No. | State | Award recipient | Award
1 | AK | Alaska Housing Finance Corp | $915,440.00
2 | AL | Health Services Center, Inc | 885,765.00
3 | AL | AIDS Alabama, Inc | 937,228.00
4 | AZ | Cochise County | 611,582.00
5 | CO | Del Norte Neighborhood Development Corp | 612,379.00
6 | GA | City of Savannah | 685,696
7 | ID | Idaho Housing & Finance Association | 1,349,068.00
8 | IL | Cornerstone Services, Inc | 926,251
9 | IL | AIDS Foundation of Chicago | 1,384,993.00
10 | KY | Lexington-Fayette Urban County Government | 1,430,000.00
11 | MD | City of Baltimore, Office of Human Services | 1,424,500.00
12 | MD | AIDS Interfaith Residential Services, Inc | 1,339,000.00
13 | MN | Salvation Army, Harbor Lights | 467,298.00
14 | MS | Grace House | 1,221,580.00
15 | MT | State of Montana | 1,430,000.00
16 | NH | Harbor Homes, Inc | 500,457.00
17 | NH | State of New Hampshire | 966,900.00
18 | NM | Santa Fe Community Housing Trust | 1,314,280
19 | NY | Greyston Health Services, Inc | 1,365,890.00
20 | NY | Bailey House, Inc | 1,325,494.00
21 | TX | Tarrant County Community Development Division | 950,966.00
22 | VI | V.I. Community AIDS Resource & Education | 1,373,400.00
23 | VT | Vermont Housing and Conservation Board | 1,430,000.00
24 | WA | State of Washington | 1,301,664.00
25 | WI | AIDS Resource Center of Wisconsin | 1,339,000
26 | WY | Wyoming Department of Health | 623,117.00
Total | 28,111,948.00

Appendix B

Fiscal Year 2011 Funding Awards for New HOPWA Permanent Supportive & Transitional Housing Grants
No. | State | Award recipient | Award
2 | CA | Los Angeles County Commission on HIV | $1,375,000.00
6 | FL | River Region Human Services, Inc | 1,353,743.00
7 | MA | Justice Resource Institute, Inc | 1,223,377.00
3 | ME | Frannie Peabody Center | 930,909.00
5 | NY | Corporation for AIDS Research Education and Services Inc | 1,344,375.00
4 | OR | City of Portland | 1,365,900.00
1 | TX | City of Dallas | 1,287,500.00
Total | 8,880,804.00

[FR Doc. 2013-04907 Filed 3-1-13; 8:45 am]

BILLING CODE 4210-67-P